DEPARTMENT OF JUSTICE

[AAG/A Order No. 225-2002]

Privacy Act of 1974; Notice of the Removal of a System of Records

This notice serves to correct the notice of removal of a Privacy Act system of records of the Bureau of Prisons (BOP), published by the Department of Justice on November 13, 2001 (66 FR 56860), relating to “Industrial Inmate Employment Record System, BOP-003”. That notice had a substantive error. The notice should have read as follows.

Pursuant to the provisions of the Privacy Act of 1974 (5 U.S.C. 552a), the Bureau of Prisons (BOP), Department of Justice is removing a published Privacy Act system of records entitled “Industrial Inmate Employment Record System, JUSTICE/BOP-003.” Inmate payroll records have been transferred to the system of records entitled “Inmate Central Records, JUSTICE/BOP-005.” The remainder of the records have been destroyed in accordance with approved records retention and disposal schedules. The National Archives and Records Administration removed the requirement that any records be offered for permanent retention. Therefore, the “Industrial Inmate Employment Record System,” last published in the Federal Register on September 28, 1978, 43 FR 44733, is removed from the Department's compilation of Privacy Act systems.

Dated: February 13, 2002.
Robert F. Diegelman,
Acting Assistant Attorney General, for Administration.

[FR Doc. 02-4700 Filed 2-27-02; 8:45 am]

BILLING CODE 4410-05-M